FEDERAL DEPOSIT INSURANCE CORPORATION

Agency Information Collection Activities: Proposed Collection Renewals (0097; 0134; 0135); Comment Request

AGENCY: Federal Deposit Insurance Corporation (FDIC).

ACTION: Notice and request for comment.

SUMMARY: The FDIC, as part of its continuing effort to reduce paperwork and respondent burden, invites the general public and other Federal agencies to take this opportunity to comment on proposed and/or continuing information collections, as required by the Paperwork Reduction Act of 1995 (44 U.S.C. chapter 35). Currently, the FDIC is soliciting comments concerning the following continuing collections of information titled: (1) Interagency Notice of Change in Director or Executive Officer (3064-0097); (2) Customer Assistance (3064-0134); and (3) Asset Purchaser Eligibility Certification (3064-0135).

DATES: Comments must be submitted on or before February 27, 2006.

ADDRESSES: Interested parties are invited to submit written comments by any of the following methods. All comments should refer to the name and number of the collection:

• http://www.FDIC.gov/regulations/laws/federal/propose.html.

• E-mail: comments@fdic.gov. Include the name and number of the collection in the subject line of the message.

• Mail: Gary A. Kuiper (202.942.3824), Counsel, Federal Deposit Insurance Corporation, 550 17th Street, NW., (PA1730-3000), Washington, DC 20429.

• Hand Delivery: Comments may be hand-delivered to the guard station at the rear of the 550 17th Street Building (located on F Street), on business days between 7 a.m. and 5 p.m.

A copy of the comments may also be submitted to the OMB desk officer for the FDIC: Mark Menchik, Office of Information and Regulatory Affairs, Office of Management and Budget, New Executive Office Building, Room 3208, Washington, DC 20503.

FOR FURTHER INFORMATION CONTACT: Gary A. Kuiper, at the address identified above.

SUPPLEMENTARY INFORMATION:

Proposal to Renew the Following Currently Approved Collections of Information

1. Title: Interagency Notice of Change in Director or Executive.

OMB Number: 3064-0097.

Frequency of Response: On occasion.

Affected Public: Business or other financial institutions.

Estimated Number of Respondents: 200.

Estimated Time per Response: 2 hours.

Total Annual Burden: 400 hours.

General Description of Collection: This notice is used by a depository institution or its holding company to notify the appropriate regulatory agency of a proposed change in the board of directors or senior executive officer of such institution or holding company.

2. Title: Customer Assistance.

OMB Number: 3064-0134.

Form Number: FDIC 6422/04.

Frequency of Response: On occasion.

Affected Public: Business or other financial institutions.

Estimated Number of Respondents: 5000.

Estimated Time per Response: 0.5 hours.

Total Annual Burden: 2500 hours.

General Description of Collection: This collection permits the FDIC to collect information from customers of financial institutions who have inquiries or complaints about service. Customers may document their complaints or inquiries to the FDIC using a letter or an optional form (6422/04).

3. Title: Asset Purchaser Eligibility Certification.

OMB Number: 3064-0135.

Form Number: FDIC 7300/06.

Frequency of Response: On occasion.

Affected Public: Business or other financial institutions.

Estimated Number of Respondents: 2500.

Estimated Time per Response: 0.5 hours.

Total Annual Burden: 1250 hours.

General Description of Collection: The FDIC will use the Asset Purchaser Eligibility Certification to assure compliance with statutory restrictions on who may purchase assets held by the FDIC.

Request for Comment

Comments are invited on: (a) Whether the collection of information is necessary for the proper performance of the FDIC's functions, including whether the information has practical utility; (b) the accuracy of the estimates of the burden of the information collection, including the validity of the methodology and assumptions used; (c) ways to enhance the quality, utility, and clarity of the information to be collected; and (d) ways to minimize the burden of the information collection on respondents, including through the use of automated collection techniques or other forms of information technology.

At the end of the comment period, the comments and recommendations received will be analyzed to determine the extent to which the collection should be modified prior to submission to OMB for review and approval. Comments submitted in response to this notice also will be summarized or included in the FDIC's requests to OMB for renewal of these collections. All comments will become a matter of public record.

Dated at Washington, DC, this 22nd day of December, 2005.
Federal Deposit Insurance Corporation.
Robert E. Feldman,
Executive Secretary.

[FR Doc. E5-8002 Filed 12-28-05; 8:45 am]

BILLING CODE 6714-01-P